DEPARTMENT OF ENERGY

Federal Energy Regulatory Commission

[Docket No. AD12-16-000]

Capacity Deliverability Across the Midwest; Independent Transmission System Operator, Inc.; PJM Interconnection, L.L.C. Seam; Notice Establishing Comment Period

On June 11, 2012, the Commission issued a notice seeking comments regarding “Capacity Deliverability Across the Midwest Independent Transmission System Operator, Inc./PJM Interconnection, L.L.C. Seam.” 139 FERC ¶ 61,200 (2012).

Notice is hereby given that interested parties should submit comments on or before August 10, 2012. Reply comments must be filed on or before August 27, 2012.

Dated: June 13, 2012.
Kimberly D. Bose,
Secretary.

[FR Doc. 2012-14985 Filed 6-19-12; 8:45 am]

BILLING CODE 6717-01-P